DEPARTMENT OF LABOR

Employment and Training Administration

[TA-W-63,557]

Royal Home Fashions, Plant 4, a Subsidiary Of Croscill, Inc., Durham, NC; Notice of Termination of Investigation

Pursuant to Section 221 of the Trade Act of 1974, as amended, an investigation was initiated on June 18, 2008 in response to a petition filed by a company official on behalf of the workers of Royal Home Fashions, Plant 4, a subsidiary of Croscill, Inc., Henderson, North Carolina.

The workers are covered by active certification (TA-W-59,843), which expires on August 31, 2008. Consequently, further investigation in this case would serve no purpose, and the investigation has been terminated.

Signed at Washington, DC this 20th day of June 2008.
Richard Church,
Certifying Officer, Division of Trade Adjustment Assistance.

[FR Doc. E8-14602 Filed 6-26-08; 8:45 am]

BILLING CODE 4510-FN-P